DEPARTMENT OF HOUSING AND URBAN DEVELOPMENT

[Docket No. FR-4651N-01]

Proposed Information Collection, Comment Request, Economic Opportunities for Low- and Very Low-Income Persons

AGENCY: Office of the Assistant Secretary for Fair Housing and Equal Opportunity, HUD.

ACTION: Notice

SUMMARY: The proposed information collection requirement concerning the Section 3 program will be submitted to the Office of Management and Budget (OMB) for review, as required by the Paperwork Reduction Act. The Department is soliciting public comments on the subject proposal.

DATES: Comment Due Date: March 19, 2001.

ADDRESSES: Interested persons are invited to submit comments regarding this proposal. Comments should refer to the proposal by name and/or OMB Control Number and should be sent to: Valerie T. Hayes, Department of Housing and Urban Development, 451 7th Street, SW., Room 5235, Washington, DC 20410. Telephone number (202) 708-3633.

FOR FURTHER INFORMATION CONTACT: Valerie T. Hayes, Department of Housing and Urban Development, 451 7th Street, SW, Washington, DC 20410, telephone (202) 708-3633. (This is not a toll-free number). Hearing or speech-impaired individuals may access this number TTY by calling the toll-free Federal Information Relay Service at 1-800-877-8399.

SUPPLEMENTARY INFORMATION: The Department is submitting the proposed information collection to OMB for review, as required by the Paperwork Reduction Act of 1995 (44 U.S.C. Chapter 34, as amended).

This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information of information on those who are to respond; including through the use of appropriate automated collection techniques or other forms of information technology, e.g., permitting electronic submission of responses.

Notice of Submission of Proposed Information Collection to OMB

Title of Proposal: Economic Opportunity for Low- and Very Low-Income Persons Office: Fair Housing and Equal Opportunity.

OMB Control Number: 2529-0043.

Description of the need for the information and proposed use: The information will be used by the Department to monitor program recipients' compliance with Section 3. HUD Headquarters will use the information to assess the results of the Department's efforts to meet the statutory objectives of Section 3. Also, the data collected will be used by recipients as a self-monitoring tool. If the information is not collected, HUD will be unable to prepare the mandatory reports to Congress or to assess the effectiveness of Section 3.

Agency form numbers, if applicable: Form HUD 60002 and HUD 958.

Members of affected public: State and local governments or their agencies, public and private non-profit organizations, or other public entities.

Estimation of the total numbers of hours needed to prepare the information collection including number of respondents, frequency of response, and hours of response: On an annual basis approximately 58,594 respondents (HUD recipients) will submit one report to HUD. It is estimated that two hours per annual reporting period will be required of the recipients to prepare the Section 3 report for a total of 117,186 hours.

Status of the proposed information collection: Reinstatement of a currently approved collection to reflect the collection of information from HUD recipients.

Authority: The Paperwork Reduction Act of 1995, 44 U.S.C. Chapter 35, as amended.

Dated: January 8, 2001.
John H. Waller,
Deputy Assistant Secretary for Economic Development.

[FR Doc. 01-1402 Filed 1-17-01; 8:45 am]

BILLING CODE 4210-28-M